DEPARTMENT OF HEALTH AND HUMAN SERVICES

Centers for Disease Control and Prevention

[30Day-07-0009]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Disease Surveillance Program I—Case Reports—Revision—(OMB No. 0920-0009), National Center for Infectious Diseases (NCID), Centers for Disease Control and Prevention (CDC).

Background and Brief Description

Formal surveillance of 19 separate reportable diseases has been ongoing to meet the public demand and scientific interest in accurate, consistent, epidemiologic data. These ongoing disease reports include: Active Bacterial Core Surveillance (ABCs), Creutzfeldt-Jakob Disease(CJD), Cyclospora, Dengue, Hantavirus, Idiopathic CD4+T-lymphocytopenia, Kawasaki Syndrome, Legionellosis, Lyme disease, Malaria, Plague, Q Fever, Reye Syndrome, Tick-borne Rickettsial Disease, Trichinosis, Tularemia, Typhoid Fever, and Viral Hepatitis. Tularemia and Methicillin-Resistant Staphylococcus aureaus (MRSA) are new additions to this submission. Case report forms from state and territorial health departments enable CDC to collect demographic, clinical, and laboratory characteristics of cases of these diseases. This information is used to direct epidemiologic investigations, identify and monitor trends in reemerging infectious diseases or emerging modes of transmission, to search for possible causes or sources of the diseases, and develop guidelines for prevention and treatment. The data collected will also be used to recommend target areas most in need of vaccinations for selected diseases and to determine development of drug resistance.

Because of the distinct nature of each of the diseases, the number of cases reported annually is different for each. There is no cost to respondents other than their time. The total annual burden hours are 13,371.

Estimate of Annualized Burden Hours
Form | Number of respondents | Number responses/ respondent | Total responses | Hrs/response
ABCs | 329 | 21 | 6,909 | 10/60
ABCs Invasive MRSA | 18 | 256 | 4,608 | 10/60
CJD | 20 | 2 | 40 | 20/60
Cyclosporiasis | 55 | 10 | 550 | 15/60
Dengue Case Investigation | 55 | 182 | 10,010 | 15/60
Hantavirus Pulmonary Syndrome | 46 | 3 | 138 | 20/60
Idiopathic CD4+T-lymphocytopenia | 10 | 2 | 20 | 10/60
Kawasaki Syndrome | 55 | 8 | 440 | 15/60
Legionellosis Case Report | 23 | 11.7 | 269 | 20/60
Lyme Disease Report | 52 | 385 | 20,020 | 10/60
Malaria Case Surveillance Report | 55 | 20 | 1,100 | 15/60
Plague Case Investigation Report | 55 | 0.20 | 11 | 20/60
Q Fever | 55 | 1 | 55 | 10/60
Reye Syndrome Case Surveillance Report | 50 | 1 | 50 | 20/60
Tick-borne Rickettsial Disease Case Report | 55 | 18 | 990 | 10/60
Trichinosis Surveillance Case Report | 55 | .45 | 25 | 20/60
Tularemia | 55 | 2.2 | 121 | 20/60
Typhoid Fever Surveillance Report | 55 | 6 | 330 | 20/60
Viral Hepatitis Case Record | 55 | 200 | 11,000 | 25/60

Dated: November 8, 2006.
Joan F. Karr,
Acting Reports Clearance Officer, Centers for Disease Control and Prevention.

[FR Doc. E6-19263 Filed 11-14-06; 8:45 am]

BILLING CODE 4163-18-P